MARINE MAMMAL COMMISSION

Notice of Solicitation

AGENCY: Marine Mammal Commission.

ACTION: Notice of solicitation for nominations for potential members of the Committee of Scientific Advisors on Marine Mammals.

SUMMARY: The Marine Mammal Commission was created under Title II of the Marine Mammal Protection Act of 1972, as amended. The Commission is assisted in its duties by the Committee of Scientific Advisors on Marine Mammals. The Committee consists of nine members, appointed by the Chairman of the Commission. As a general rule, Committee members are appointed for three-year terms, which may be extended as necessary, but vacancies do not occur on a regularly scheduled basis. To assist the Commission in identifying qualified candidates for appointment to the Committee if and when vacancies occur, the Commission is soliciting nominations from the public.

DATES: Nominations for this solicitation should be received by May 23, 2011. Nominations also will be accepted at other times on an on-going basis.

ADDRESSES: Catherine M. Jones, Administrative Officer, Marine Mammal Commission, 4340 East-West Highway, Room 700, Bethesda, Maryland 20814. Nominations (Word, PDF, in text of e-mail) may be sent via e-mail to cjones@mmc.gov. Nominations should include a brief statement of the nominee's qualifications and should include a copy of the nominee's curriculum vitae. Self-nominations are acceptable.

FOR FURTHER INFORMATION CONTACT: Timothy J. Ragen, Ph.D., Executive Director, Marine Mammal Commission, 4340 East-West Highway, Room 700, Bethesda, Maryland 20814; (301) 504-0087.

SUPPLEMENTARY INFORMATION: Section 203 of the Marine Mammal Protection Act directs the Commission to establish a nine-member Committee of Scientific Advisors on Marine Mammals. The Committee is to consist of scientists knowledgeable in marine ecology and marine mammal affairs. Members are appointed by the Chairman after consultation with the Chairman of the Council on Environmental Quality, the Secretary of the Smithsonian Institution, the Director of the National Science Foundation, and the Chairman of the National Academy of Sciences. The Commission is required to consult with the Committee on all studies and recommendations that it may propose to make or has made, on research programs conducted or proposed to be conducted under the authority of the Act, and on all applications for permits for scientific research.

In selecting individuals to serve on the Committee, the Commission seeks to ensure that the Committee membership as a whole possesses a high level of expertise with respect to scientific disciplines, marine mammal species, and geographic areas of importance to the Commission's responsibilities. In particular, the Commission requires a high level of knowledge with respect to the biology and ecology of certain marine mammal species that, due to their small population levels and/or threats they face, require special attention. These include, but are not limited to, the West Indian manatee, the right whale and other species of large whales, the vaquita, sea otters, the Cook Inlet stock of beluga whales, the polar bear, and the Hawaiian monk seal. In addition, Committee members are selected to provide broad familiarity with marine mammal species and issues from a range of geographic regions where Commission responsibilities are especially great.

A listing of the current members of the Committee is available on the Commission's Web site at http://www.mmc.gov.

Dated: April 18, 2011.
Timothy J. Ragen,
Executive Director.

[FR Doc. 2011-9981 Filed 4-25-11; 8:45 am]

BILLING CODE 6820-31-M